COURT SERVICES AND OFFENDER SUPERVISION AGENCY FOR THE DISTRICT OF COLUMBIA

Agency Information Collection Activities: Proposed Collection; Comment Request; Generic Clearance for the Collection of Qualitative Feedback on Agency Service Delivery

AGENCY: Court Services and Offender Supervision Agency for the District of Columbia (CSOSA).

ACTION: Notice and request for comments.

SUMMARY: This notice announces the intention of the CSOSA to request that the Office of Management and Budget (OMB) approve the proposed Generic Information Collection request (Generic ICR): “Generic Clearance for the Collection of Qualitative Feedback on Agency Service Delivery.” In accordance with the Paperwork Reduction Act (44 U.S.C. 3501 et seq.), this notice announces CSOSA's intent to submit this collection to OMB for approval. CSOSA invites the public to comment on this proposed information collection.

DATES: Consideration will be given to all comments received by August 16, 2017.

ADDRESSES: You may submit written comments, identified by “Collection of Qualitative Feedback on Agency Service Delivery” to: Rochelle Durant, Program Analyst, Office of General Counsel, Court Services and Offender Supervision Agency for the District of Columbia, 633 Indiana Avenue NW., Washington, DC 20004 or to Rochelle.Durant@csosa.gov Fax: (202) 220-5315.

Comments submitted in response to this notice may be made available to the public. For this reason, please do not include in your comments information of a confidential nature, such as sensitive personal information or proprietary information. If you send an email comment, your email address will be automatically captured and included as part of the comment that is placed in the public docket and may be made available on the Internet. Please note that responses to this public comment request containing any routine notice about the confidentiality of the communication will be treated as public comments that may be made available to the public notwithstanding the inclusion of the routine notice.

FOR FURTHER INFORMATION CONTACT: Rochelle Durant, Program Analyst, Office of General Counsel, Court Services and Offender Supervision Agency for the District of Columbia, 633 Indiana Avenue NW., Room 1253, Washington, DC 20004, (202) 220-5304 or to Rochelle.Durant@csosa.gov.

For content support: William T. Miles, Congressional Affairs Specialist, Office of Legislative, Intergovernmental and Public Affairs, Court Services and Offender Supervision Agency for the District of Columbia, 633 Indiana Avenue NW., Room 1268, Washington, DC 20004, (202) 220-5344 or to William.Miles@csosa.gov.

SUPPLEMENTARY INFORMATION: Notice and request for public comment on this collection was published in the Federal Register on May 3, 2017 at 82 FR 84. The Agency did not receive any comments in response to the 60-day notice published in the Federal Register.

Title: Generic Clearance for the Collection of Qualitative Feedback on Agency Service Delivery.

Abstract: Under the PRA (44 U.S.C. 3501-3520), federal agencies must obtain approval from the Office of Management and Budget (OMB) for each collection of information they collect or sponsor. Section 3506(c)(2)(A) of the PRA (944 U.S.C. 3506(c)(2)(A) requires federal agencies to provide a 60-day notice in the Federal Register concerning each proposed collection of information, including each proposed extension of an existing collection of information, before submitting the collection of information to OMB for approval. To comply with this requirement, CSOSA is publishing notice of the proposed collection of information set forth in this document. The proposed information collection activity provides a means to garner qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between the Agency and its customers and stakeholders. It will also allow feedback to contribute directly to the improvement of program management.

The Agency has traditionally used paper form surveys as its primary public information collection method. However, to further comply with the goals of the PRA, the Agency is planning to implement the use of online electronic survey tools to obtain customer and client feedback regarding Agency programs and supervision support services. The Agency will request authorization from OMB to add to the Agency's current paper form option provided to our public stakeholders, an electronic option to complete the Agency's standard surveys online. The contents in online version and in paper versions of the Agency's surveys will be identical.

Similar to the process used for gaining pubic feedback via the Agency's traditional paper form surveys, the online surveys would be forwarded to the meeting participants at the conclusion of an event or program via the participants previously registered email address. The results of the electronic surveys would be tallied by the online software and then forward to a centralized user account for further evaluation and review or to be merged with any results from completed hard copy paper surveys. Prior to implementation and use of the online survey, the Agency will conduct internal testing with fewer than nine members of the public to ensure proper functioning and ease of use.

The solicitation of feedback will target areas such as: Timeliness, appropriateness, accuracy of information, courtesy, efficiency of service delivery, and resolution of issues with service delivery. Responses will be assessed to plan and inform efforts to improve or maintain the quality of service offered to the public. If this information is not collected, vital feedback from customers and stakeholders on the Agency's services will be unavailable.

The Agency will only submit a collection for approval under this generic clearance if it meets the following conditions:

1. The collections are voluntary;

2. The collections are low-burden for respondents (based on considerations of total burden hours, total number of respondents, or burden-hours per respondent) and are low-cost for both the respondents and the federal government;

3. The collections are non-controversial and do not raise issues of concern to other federal agencies;

4. Any collection is targeted to the solicitation of opinions from respondents who have experience with the program or may have experience with the program in the near future;

5. Personally identifiable information (PII) is collected only to the extent necessary and is not retained;

6. Information gathered will be used only internally for general service improvement and program management purposes and is not intended for release outside of the agency;

7. Information gathered will not be used for the purpose of substantially informing influential policy decisions; and

8. Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

Current Actions: New collection of information.

Type of Review: New Collection.

(1) Affected Public: Individuals currently under CSOSA supervision. CSOSA stakeholders including criminal justice system (e.g., judges, law enforcement officers) and community partners.

Estimated Number of Respondents: 450.

Below we provide projected average estimates for the next three years:

Average Expected Annual Number of activities: 15.

Average number of Respondents per Activity: 30.

Annual responses: 450.

Frequency of Response: Once per request.

Average minutes per response: 10.

Burden hours: 75.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) whether paper or electronic information collection is preferred and explanation regarding choice; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Dated: July 11, 2017.
Rochelle Durant,
Program Analyst, Court Services and Offender Supervision Agency for the District of Columbia.

[FR Doc. 2017-14928 Filed 7-14-17; 8:45 am]

BILLING CODE 3129-04-P